DEPARTMENT OF COMMERCE

International Trade Administration

[A-557-820]

Silicon Metal From Malaysia: Postponement of Preliminary Determination in the Less-Than-Fair-Value Investigation

AGENCY: Enforcement and Compliance, International Trade Administration, Department of Commerce.

DATES: Applicable November 20, 2020.

FOR FURTHER INFORMATION CONTACT: Genevieve Coen at (202) 482-3251, AD/CVD Operations, Enforcement and Compliance, International Trade Administration, U.S. Department of Commerce, 1401 Constitution Avenue NW, Washington, DC 20230.

SUPPLEMENTARY INFORMATION:

Background

On July 20, 2020, the Department of Commerce (Commerce) initiated a less-than-fair-value (LTFV) investigation of silicon metal from Malaysia.¹ Currently, the preliminary determination is due no later than December 7, 2020.

¹ See Silicon Metal from Bosnia and Herzegovina, Iceland, and Malaysia: Initiation of Less-Than-Fair-Value Investigations, 85 FR 45177 (July 27, 2020).

Postponement of Preliminary Determinations

Section 733(b)(1)(A) of the Tariff Act of 1930, as amended (the Act), requires Commerce to issue the preliminary determination in an LTFV investigation within 140 days of the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On October 29, 2020, Globe Specialty Metals, Inc. and Mississippi Silicon LLC (the petitioners) submitted a timely request that Commerce postpone the preliminary determination in this LTFV investigation.² The petitioners stated that the postponement request is due to the need for additional time to issue supplemental questionnaires, and to provide time to review and comment upon those responses prior to the preliminary determination. Under the current timeline, the petitioner believes that Commerce will not have complete responses or sufficient information to issue the preliminary determination.³

² See Petitioners' Letter, “Silicon Metal from the Republic of Malaysia: Petitioners' Request to Postpone Preliminary Antidumping Duty Determination,” dated October 29, 2020.

³ Id.

For the reasons stated above, and because there are no compelling reasons to deny the request, Commerce, in accordance with section 733(c)(1)(A) of the Act and 19 CFR 351.205(e), is postponing the deadline for the preliminary determination by 50 days (i.e., 190 days after the date on which this investigation was initiated). As a result, Commerce will issue its preliminary determination no later than January 26, 2020. In accordance with section 735(a)(1) of the Act and 19 CFR 351.210(b)(1), the deadline for the final determination in this investigation will continue to be 75 days after the date of the preliminary determination, unless postponed at a later date.

Notification to Interested Parties

This notice is issued and published pursuant to section 733(c)(2) of the Act and 19 CFR 351.205(f)(1).

Dated: November 16, 2020.
Jeffrey I. Kessler,
Assistant Secretary for Enforcement and Compliance.

[FR Doc. 2020-25635 Filed 11-19-20; 8:45 am]

BILLING CODE 3510-DS-P